DEPARTMENT OF COMMERCE

National Oceanic and Atmospheric Administration

[I.D. 062600LE]

StormReady Application Form

AGENCY: National Oceanic and Atmospheric Administration (NOAA).

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 29, 2000.

ADDRESSES: Direct all written comments to Linda Engelmeier, Departmental Forms Clearance Officer, Department of Commerce, Room 6086, 14th and Constitution Avenue NW, Washington DC 20230 (or via Internet at lengelme@doc.gov).

FOR FURTHER INFORMATION CONTACT: Requests for additional information or copies of the information collection instrument and instructions should be directed to Richard Roberts, OFA 1x1, Station 8118, NOAA, 1305 East-West Highway, Silver Spring, MD 20910 (301-713-3525, ext. 115).

SUPPLEMENTARY INFORMATION:

I. Abstract

StormReady is a community-recognition program for emergency management preparedness, and it is used to provide guidance on hazardous weather operations and to provide an incentive to officials. The StormReady Application Form is used by localities to apply for recognition. The National Weather Service will use the information on the application to determine whether the community has met all of the criteria for recognition. This information collection was recently approved by the Office of Management and Budget on an emergency basis, and this Notice solicits comments on the agency's plan to ask for a three-year approval under the Paperwork Reduction Act.

II. Method of Collection

Paper application forms are submitted. Copies of the form will be made available electronically at “www.nws.noaa.gov/stormready”. The agency is investigating ways to allow submissions via the Internet.

III. Data

OMB Number: 0648-0419.

Form Number: None.

Type of Review: Regular submission.

Affected Public: State, local, or tribal government.

Estimated Number of Respondents: 40.

Estimated Time Per Response:1 hour.

Estimated Total Annual Burden Hours: 40.

Estimated Total Annual Cost to Public: $40.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 23, 2000.
Madeleine Clayton,
Management Analyst, Office of the Chief Information Officer.

[FR Doc. 00-16538 Filed 6-29-00; 8:45 am]

BILLING CODE 3510-KE